DEPARTMENT OF COMMERCE

International Trade Administration

[A-570-848]

Freshwater Crawfish Tail Meat From the People's Republic of China: Notice of Correction to Final Results of Antidumping Duty Administrative and New Shipper Reviews; 2013-2014

AGENCY: Enforcement and Compliance, International Trade Administration, Department of Commerce.

FOR FURTHER INFORMATION CONTACT: Hermes Pinilla, AD/CVD Operations, Office I, Enforcement and Compliance, International Trade Administration, U.S. Department of Commerce, 1401 Constitution Avenue NW., Washington, DC 20230; telephone: (202) 482-3477.

SUPPLEMENTARY INFORMATION: On April 13, 2016, the Department of Commerce (the Department) published in the Federal Register the final results of the administrative and new shipper reviews of the antidumping duty order on freshwater crawfish tail meat from the People's Republic of China.¹ The Final Results contained an inadvertent error related to a certain company name. Specifically, the Final Results incorrectly identified Shanghai Ocean Flavor International Trading Co., Ltd. as Shanghai Ocean International International Trading Co., Ltd. in the “Final Results of the Administrative Review and New Shipper Reviews” section.²

¹ See Freshwater Crawfish Tail Meat from the People's Republic of China: Final Results of Antidumping Duty Administrative Review and New Shipper Reviews; 2013-2014, 81 FR 21840 (April 13, 2016) (Final Results).

² Id., at 21841.

This correction to the Final Results is issued and published in accordance with sections 751(a)(1), 751(a)(2)(B)(iv), 751(a)(3), 777(i) of the Act and 19 CFR 351.213(h), 351.214 and 351.221(b)(4). of the Tariff Act of 1930, as amended.

Dated: April 15, 2016.
Christian Marsh,
Deputy Assistant Secretary for Enforcement and Compliance.

[FR Doc. 2016-09277 Filed 4-20-16; 8:45 am]

BILLING CODE 3510-DS-P